DEPARTMENT OF TRANSPORTATION

Office of the Secretary

[Docket No. DOT-OST-2008-0244]

Notice of Request for Renewal of a Previously Approved Collection

AGENCY: Office of the Secretary, DOT.

ACTION: Notice and request for comments.

SUMMARY: The Office of the Secretary, Office of Small and Disadvantaged Business Utilization (OSDBU), invites public comments about our intention to request the Office of Management and Budget's (OMB) approval to renew a collection. Currently, there are two Short Term Loan Program (STLP) applications: the “Short Term Lending Program Application for a New Loan Guarantee” and the “Application for Loan Guarantee Renewal”. This collection renewal request includes one STLP application. The revised STLP application will be used for both new loan guarantee applicants and renewal loan guarantee applicants. The revised STLP application is a single, consolidated document that is easier to read and understand for all small business applicants. The information collected in the revised STLP application will determine the applicant's eligibility and is necessary to approve or deny a loan.

Public Comments Invited: You are asked to comment on any aspect of this information collection. All comments will also become a matter of public record.

Authority: The Paperwork Reduction Act of 1995; 44 U.S.C. Chapter 35, as amended; and 49 CFR 1.48.

DATES: Written comments should be submitted by May 6, 2012.

ADDRESSES: You may submit your comments identified by Docket Number DOT-OST-2008-0244 by any of the following methods:

• Federal eRulemaking Portal: Go to http://www.regulations.gov/. Follow the online instructions for submitting comments.

• Agency Web Site: http://dms.dot.gov/. Follow the instructions for submitting comments on the DOT electronic docket site.

• Fax: 1-202-493-2251.

• Mail or Hand Delivery: U.S. Department of Transportation, Dockets Management Facility, 1200 New Jersey Avenue SE., West Building, Room W12-140, Washington, DC 20590.

FOR FURTHER INFORMATION CONTACT: Nancy Strine, Manager Financial Assistance Division, Office of Small and Disadvantaged Business Utilization, Office of the Secretary, U.S. Department of Transportation, 1200 New Jersey Avenue SE., Room W56-448, Washington, DC 20590. Phone number 202-366-5343, fax number 202-366-7228, Email address: Nancy.Strine@dot.gov. Office hours are from 8 a.m. to 4:30 p.m., Monday through Friday, except Federal holidays.

SUPPLEMENTARY INFORMATION: Title: Short Term Lending Program Application for a Loan Guarantee.

OMB Control No.: 2105-0555.

Background: OSDBU's Short Term Lending Program (STLP) offers certified Disadvantaged Business Enterprises (DBEs) and other certified Small Businesses (8a, women-owned, small disadvantaged, HUBZone, veteran owned, and service disabled veteran owned) the opportunity to obtain short term working capital at variable interest rates for transportation-related projects. The STLP provides Participating Lenders (PLs) a guarantee, up to 75%, on a revolving line of credit up to a $750,000 maximum. These loans are provided through lenders that serve as STLP Participating Lenders (PLs). The term on the line of credit is up to one (1) year, which may be renewed for five (5) years. A potential or renewal STLP participant must submit a guaranteed loan application package. The guaranteed loan application includes the STLP application, checklist, and instructions.

Respondents: Certified Disadvantaged Business Enterprises (DBEs) and other certified Small Businesses (8a, women-owned, small disadvantaged, HUBZone, veteran owned, and service disabled veteran owned) interested in financing their transportation-related contracts.

DOT Form 2301-1(REV.1): Short Term Lending Program Application for Loan Guarantee: A potential or renewal STLP participant must submit a guaranteed loan application package. The guaranteed loan application includes the STLP application and supporting documentation to be collected from the checklist in the application. The application may be obtained directly from OSDBU, the Regional Small Business Transportation Resource Centers, from a PL, or online from the agency's Web site, currently at http://osdbu.dot.gov/documents/pdf/stlp/stlpapp.pdf.

Respondents: 100.

Frequency: Once.

Estimated Average Burden per Response: 2 hours.

Estimated Total Annual Burden Hours: 200 hours.

Supporting documentation. Required documentation shall include, but is not limited to, the following items:

a. Business, trade, or job performance reference letters;

b. DBE or other eligible certification letters;

c. Aging report of receivables and payables;

d. Business tax returns;

e. Business financial statements;

f. Personal income tax returns;

g. Personal financial statements;

h. Schedule of work in progress (WIP);

i. Signed and dated copy of transportation-related contracts;

j. Business debt schedule;

k. Cash flow projections;

l. Owner(s) and a key management resumes.

Respondents: 100.

Frequency: Once.

Estimated Average Burden per Response: 12 hours.

Estimated Total Annual Burden Hours: 1200 hours.

SUMMARY: The Office of the Secretary, Office of Small and Disadvantaged Business Utilization (OSDBU), invites public comments on our intention to request the Office of Management and Budget's (OMB) approval to renew a collection of the STLP Participating Lender (PL) forms. The collection involves the use of the “Short Term Lending Program Bank Verification Loan Activation Form”; “Short Term Lending Program Bank Acknowledgement Extension Request Form”; “Short Term Lending Program Bank Acknowledgement Loan Close-Out Form”; “Guaranty Loan Status Report”; “Pending Loan Status Report”; “Drug-Free Workplace Act Certification for a Grantee Other than an Individual”; “Certification Regarding Lobbying for Contracts, Grants, Loans, and Cooperative Agreements”; “Office of Small and Disadvantaged Business Utilization U.S. Department of Transportation Short Term Lending Program Certification Regarding Debarment, Suspension”; “Cooperative Agreement between the US Department of Transportation and the Participating Lender”; and “US Department of Transportation Office of Small and Disadvantaged Utilization Short Term Lending Program Guarantee Agreement”. The information collected administers the loans guaranteed under the STLP. The information collected keeps the Participating Lender's (PLs) in compliance with the terms established in the Cooperative Agreement between DOT and the PLs.

OMB Control No: 2105-0555.

SUPPLEMENTARY INFORMATION:

Titles: STLP—Participating Lender (PL) forms.

OMB Control No.: 2105-0555.

Background: STLP loans are provided through lenders that serve as STLP Participating Lenders (PL). The STLP provides PLs a guarantee, up to 75%, on a revolving line of credit up to a $750,000 maximum. As part of the requirements for approval as a PL, lenders must submit the following certifications: Drug-Free Workplace Act Certification for a Grantee Other Than An Individual; Certification Regarding Lobbying for Contracts, Grants, Loans, & Cooperative Agreement; Office of Small and Disadvantaged Business Utilization U.S. Department of Transportation Short Term Lending Program Certification Regarding Debarment, Suspension. The STLP is subject to budgeting and accounting requirements of the Federal Credit Reform Act of 1990 (FCRA). The PL must carry out processes to activate, monitor, service and close out STLP loans. To fulfill the requirements of FCRA, the PL submits reports and the following forms to OSDBU.

Respondents: Participating Lenders that are in the process or have entered into cooperative agreements with DOT's OSDBU under 49 CFR Part 22 DOT-OST-2008-0236 entitled, “Short Term Lending Program”.

DOT Form 2303-1: Short Term Lending Program Bank Verification Loan Activation Form. The PL must submit a Loan Activation Form to OSDBU that indicates the date in which the loan has been activated.

Respondents: 100.

Frequency: Annually, up to five years.

Estimated Average Burden per Response: ½ hour.

Estimated Total Annual Burden Hours: 50 hours.

DOT Form 2310-1: Short Term Lending Program Bank Acknowledgement Extension Request Form. An extension of the original loan guarantee for a maximum period of ninety (90) days may be requested, in writing, by the PL using the STLP Extension Request Form.

Respondents: 100.

Frequency: Annually.

Estimated Average Burden per Response: ½ hour.

Estimated Total Annual Burden Hours: 50 hours.

DOT Form 2304-1: Short Term Lending Program Bank Acknowledgement Loan Close-Out Form. The PL must submit the Loan Close-Out Form to OSDBU upon full repayment of the STLP loan or when the loan guarantee expires.

Respondents: 100.

Frequency: Annually.

Estimated Average Burden per Response: ½ hour.

Estimated Total Annual Burden Hours: 50 hours.

DOT Form 2305-1: Guaranty Loan Status Report. The PL submits a monthly status of active guaranteed loans to OSDBU.

Respondents: 100.

Frequency: Monthly.

Estimated Average Burden per Response: 1 hour.

Estimated Total Annual Burden Hours: 100 hours.

DOT Form 2306-1: Pending Loan Status Report. The PL submits a monthly loan(s) in process report to OSDBU.

Respondents: 100.

Frequency: Monthly.

Estimated Average Burden per Response: 1 hour.

Estimated Total Annual Burden Hours: 100 hours.

DOT Form 2307-1: Drug-Free Workplace Act Certification for a Grantee Other than an Individual. The PL certifies it is a drug-free workplace by executing this certification.

Respondents: 100.

Frequency: Once.

Estimated Average Burden per Response: 15 minutes.

Estimated Total Annual Burden Hours: 25 hours.

DOT Form 2308-1. Certification Regarding Lobbying for Contracts, Grants, Loans, and Cooperative Agreement. The PL certifies that no Federal funds will be utilized for lobbying by executing this form.

Respondents: 100.

Frequency: Once.

Estimated Average Burden per Response: 15 minutes.

Estimated Total Annual Burden Hours: 25 hours.

DOT Form 2309-1. Office of Small and Disadvantaged Business Utilization

U.S. Department of Transportation Short Term Lending Program Certification Regarding Debarment, Suspension. The PL must not currently be debarred or suspended from participation in a government contract or delinquent on a government debt by submitting this form.

Respondents: 100.

Frequency: Once.

Estimated Average Burden per Response: 15 minutes.

Estimated Total Annual Burden Hours: 25 hours.

Issued in Washington, DC on March 6, 2012.
Brandon Neal,
Director, Office of Small and Disadvantaged Business Utilization, Office of the Secretary.

[FR Doc. 2012-5750 Filed 3-8-12; 8:45 am]

BILLING CODE 4910-9X-P